ENVIRONMENTAL PROTECTION AGENCY

[ER-FRL-6685-6]

Environmental Impact Statements; Notice of Availability

Responsible Agency: Office of Federal Activities, General Information (202) 564-7167 or http://www.epa.gov/compliance/nepa/.

Weekly receipt of Environmental Impact Statements

Filed 03/26/2007 Through 03/30/2007

Pursuant to 40 CFR 1506.9.

EIS No. 20070126, Final Supplement, AFS, CA, Watdog Project, Preferred Alternative is B, Feather River Ranger District, Plumas National Forest, Butte and Plumas Counties, CA, Wait Period Ends: 05/07/2007, Contact: John Zarlengo 530-534-6500.

EIS No. 20070127, Final EIS, NPS, 00, Ellis Island and Statue of Liberty National Monument Development Concept Plan, Long-Term Rehabilitation and Reuse for Historic Buildings, Implementation, New York Harbor, NY and NJ, Wait Period Ends: 05/07/2007, Contact: Cynthia Garrett 212-363-3206 Ext 100.

EIS No. 20070128, Final EIS, AFS, ID, Myrtle Creek Healthy Forest Restoration Act Project, Proposes Aquatic and Vegetation Improvement Treatments, Panhandle National Forests, Bonners Ferry Ranger District, City of Bonners Ferry, Boundary County, ID, Wait Period Ends: 05/07/2007, Contact: Doug Nishek 208-267-5561.

EIS No. 20070129, Draft Supplement, NOA, 00, Atlantic Mackerel, Squid and Butterfish, Fishery Management Plan, Amendment #9, Implementation, Essential Fish Habitat (EFH), Exclusive Economic Zone (EEZ), Comment Period Ends: 05/21/2007, Contact: Patricia A. Kurkul 978-281-9250.

EIS No. 20070130, Draft EIS, NOA, 00, Phase I—Essential Fish Habitat Omnibus Amendment #2, Designations for 27 Species, Amendment #14 to the Northeast Multispecies FMP, Amendment #14 to the Atlantic Scallop FMP, Amendment #3 to the Atlantic Herring FMP, Amendment 4 to the Monkfish FMP, Amendment 1 to the Deep-Sea Red Crab FMP, Amendment 2 to the Skates FMP and Amendment 3 to the Atlantic Salmon FMP, Maine to North Carolina, Comment Period Ends:05/21/2007, Contact: Peter Colosi 978-281-9332.

EIS No. 20070131, Draft EIS, IBR, NM, Navajo-Gallup Water Supply Project, To Provide a Long-Term (Year 2040) Water Supply, Treatment and Transmission of Municipal and Industrial (M&I) Water to Navajo National and Jicarilla Apache Nation, City of Gallup, New Mexico, Comment Period Ends: 06/28/2007, Contact: Rege Leach 970-385-6553.

EIS No. 20070132, Draft EIS, AFS, 00, Yellowstone and Grand Teton National Parks and the John D. Rockefeller, Jr. Memorial Parkway, Winter Use Plan, To Provide a Framework for Managing Winter Use Activities, Implementation, Fremont County, ID, Gallatin and Park Counties, MT Park and Teton Counties, WY, Comment Period Ends: 05/31/2007, Contact: Debbie VanDePolder 307-344-2019.

EIS No. 20070133, Draft EIS, FRC, GA, Elba III Project, Construct, Operate and Acquire Facilities to move Re-Vaporized Liquefied Natural Gas (LNG), U.S. Army COE Section 10 and 404 Permits and U.S. Coast Guard Permit, Elba Island, Chatham County, GA, Comment Period Ends: 05/21/2007, Contact: Andy Black 1-866-208-3372.

EIS No. 20070134, Final EIS, FHW, VA, I-81 Corridor Improvement Study in Virginia, Transportation Improvements from the Tennessee Border to the West Virginia Border, (Tier 1), Several Counties, VA and WV, Wait Period Ends: 05/07/2007, Contact: John Simkins 804-775-3342.

Dated: April 3, 2007.
Robert W. Hargrove,
Director, NEPA Compliance Division, Office of Federal Activities.

[FR Doc. E7-6452 Filed 4-5-07; 8:45 am]

BILLING CODE 6560-50-P